DEPARTMENT OF HOUSING AND URBAN DEVELOPMENT

[Docket No. FR-5519-D-01]

Delegation Authority for the Office of Sustainable Housing and Communities

AGENCY: Office of the Secretary, HUD.

ACTION: Notice of delegation of authority.

SUMMARY: In this notice, the Secretary of HUD delegates concurrent authority to the Director and Deputy Director, Office of Sustainable Housing and Communities (OSHC), relating to improving regional planning efforts that integrate housing and transportation decisions, and increase the capacity to improve land use and zoning.

DATES: Effective Date: August 19, 2011.

FOR FURTHER INFORMATION CONTACT: Stephen A. Cerny, Attorney-Advisor, Office of Sustainable Housing and Communities, Department of Housing and Urban Development, 451 7th Street, SW., Room 10180, Washington, DC 20410, Telephone number, 202-402-5097. (This is not a toll-free number.) Persons with hearing- or speech-impairments may access this number through TTY by calling the toll-free Federal Relay Service at 1-800-877-8339.

SUPPLEMENTARY INFORMATION: OSHC provides grants to improve regional and local planning efforts that integrate housing and transportation decisions, and increase the capacity to improve land use and zoning to support market investments that support sustainable communities. OSHC is also charged with working within HUD to support program leadership and staff as they align their programs with the sustainability principles. OSHC represents HUD on the Sustainable Communities Partnership that is working with the United States Department of Transportation and the United States Environmental Protection Agency to align federal resources, reinforce local and regional development strategies to support economic growth, and reduce bureaucratic barriers so that communities can meet the demand for more sustainable communities. OSHC is also responsible for coordinating HUD's initiatives to expand energy efficiency and renewable energy in affordable housing, through financing, technical assistance and industry partnerships. HUD's sustainable housing strategy utilizes market-based approaches and leverages the Department's existing authority to support private sector investment and consumer choice. There are no previous delegations of authority for OSHC.

Section A. Authority Delegated

The Secretary hereby delegates to the Director and Deputy Director, OSHC, concurrent authority and responsibility pursuant to the Consolidated Appropriations Act, 2010 (Pub. L. 111-117, 123 Stat. 3034, at 3084, approved, Dec. 16, 2009) relating to improving regional planning efforts that integrate housing and transportation decisions, and increase the capacity to improve land use and zoning. The Secretary may revoke the authority authorized herein, in whole or part, at any time.

Section B. Authority Excepted

The authority delegated in this document does not include the authority to sue or be sued or to issue or waive regulations.

Section C. Authority to Redelegate

The authority delegated in this document may be redelegated.

Section D. Authority Superseded

There are no previous delegations of authority.

Authority: Section 7(d) of the Department of Housing and Urban Development Act (42 U.S.C. 3535(d).

Dated: August 19, 2011.
Shaun Donovan,
Secretary.

[FR Doc. 2011-22192 Filed 8-29-11; 8:45 am]

BILLING CODE 4210-67-P